DEPARTMENT OF HEALTH AND HUMAN SERVICES

Health Resources and Services Administration

Health Care Integrity and Protection Data Bank (HIPDB) and National Practitioner Data Bank (NPDB): Public Posting of Non-Compliant Government Agencies

AGENCY: Health Resources and Services Administration, HHS.

ACTION: Notice of intent to publish list of non-compliant Government agencies.

SUMMARY: “Government agencies,” as defined in section 1128E(g)(3) of the Social Security Act (42 U.S.C. 1320a-7e(g)(3)), that are not in compliance with the reporting requirements of the HIPDB will have their names published in a report on the HRSA and Data Bank Web sites (http://www.hrsa.gov and http://www.npdb-hipdb.hrsa.gov) by July 1, 2010. This listing of non-compliant Government agencies will be reviewed and updated on a periodic basis.

SUPPLEMENTARY INFORMATION: The HIPDB was mandated by Section 1128E of the Social Security Act (SSA) as added by Section 221(a) of the Health Insurance Portability and Accountability Act of 1996. Government agencies that license or certify health care practitioners, providers or suppliers, must report final adverse actions to the HIPDB generally within 30 days of the date the action becomes final. With the March 1, 2010, effective date of the final rule implementing Section 1921 of the SSA, many of the actions reported to the HIPDB also are now posted and available for querying in the NPDB.

Section 1128E(b)(6)(B) of the SSA (42 U.S.C. 1320a-7e(b)(6)(B)) states that “[t]he Secretary shall provide for a publication of a public report that identifies those Government agencies that have failed to report information on adverse actions as required to be reported [to the HIPDB].”

Beginning no later than July 1, 2010, the Department will publish a report on the HRSA and Data Bank Web sites that identifies those professions for which Government agencies' reporting history has been analyzed. The report will also set forth a list of those Government agencies that are: (1) Out of compliance with reporting requirements (that is, they have failed to address their non-compliance); and (2) working toward full compliance with reporting requirements (that is, they have begun reporting). The listing of non-compliant Government agencies will be reviewed and updated on a periodic basis.

FOR FURTHER INFORMATION CONTACT: Mark S. Pincus, Acting Director, Division of Practitioner Data Banks, Bureau of Health Professions, Health Resources and Services Administration, 5600 Fishers Lane, Suite 8-103, Rockville, Maryland 20857. Tel: (301) 443-2300.

Dated: May 5, 2010.
Mary K. Wakefield,
Administrator.

[FR Doc. 2010-11368 Filed 5-11-10; 8:45 am]

BILLING CODE 4165-15-P